DEPARTMENT OF TRANSPORTATION

Federal Aviation Administration

14 CFR Part 39

[Docket No. FAA-2022-0085; Project Identifier MCAI-2021-00498-T; Amendment 39-22072; AD 2022-12-01]

RIN 2120-AA64

Airworthiness Directives; Bombardier, Inc., Airplanes

AGENCY: Federal Aviation Administration (FAA), Department of Transportation (DOT).

ACTION: Final rule.

SUMMARY: The FAA is adopting a new airworthiness directive (AD) for certain Bombardier, Inc., Model BD-700-1A10 and BD-700-1A11 airplanes. This AD was prompted by reports of oxygen leaks caused by cracked, brittle, or broken oxygen hoses that were found during scheduled maintenance tests of the airplane oxygen system. This AD requires an inspection of the oxygen hose assembly to determine if an affected part number is installed, and replacement of affected oxygen hoses. For certain airplanes, this AD allows repetitive testing of the oxygen system until affected hoses are replaced. This AD also prohibits installation of an affected oxygen hose. The FAA is issuing this AD to address the unsafe condition on these products.

DATES: This AD is effective July 19, 2022.

The Director of the Federal Register approved the incorporation by reference of certain publications listed in this AD as of July 19, 2022.

ADDRESSES: For service information identified in this final rule, contact Bombardier Business Aircraft Customer Response Center, 400 Côte-Vertu Road West, Dorval, Québec H4S 1Y9, Canada; telephone 514-855-2999; email ac.yul@aero.bombardier.com; internet https://www.bombardier.com. You may view this service information at the FAA, Airworthiness Products Section, Operational Safety Branch, 2200 South 216th St., Des Moines, WA. For information on the availability of this material at the FAA, call 206-231-3195. It is also available on the internet at https://www.regulations.gov by searching for and locating Docket No. FAA-2022-0085.

Examining the AD Docket

You may examine the AD docket on the internet at https://www.regulations.gov by searching for and locating Docket No. FAA-2022-0085; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Elizabeth Dowling, Aerospace Engineer, Mechanical Systems and Administrative Services Section, FAA, New York ACO Branch, 1600 Stewart Avenue, Suite 410, Westbury, NY 11590; telephone 516-228-7300; fax 516-794-5531; email 9-avs-nyaco-cos@faa.gov.

SUPPLEMENTARY INFORMATION:

Discussion

Transport Canada Civil Aviation (TCCA), which is the aviation authority for Canada, has issued TCCA AD CF-2021-17, dated April 28, 2021 (also referred to as the Mandatory Continuing Airworthiness Information, or the MCAI), to correct an unsafe condition for certain Bombardier, Inc., Model BD-700-1A10 and BD-700-1A11 airplanes. You may examine the MCAI in the AD docket on the internet at https://www.regulations.gov by searching for and locating Docket No. FAA-2022-0085.

The FAA issued a notice of proposed rulemaking (NPRM) to amend 14 CFR part 39 by adding an AD that would apply to certain Bombardier, Inc., Model BD-700-1A10 and BD-700-1A11 airplanes. The NPRM published in the Federal Register on February 3, 2022 (87 FR 6082). The NPRM was prompted by reports of oxygen leaks caused by cracked, brittle, or broken oxygen hoses that were found during scheduled maintenance tests of the airplane oxygen system. The NPRM proposed to require an inspection of the oxygen hose assembly to determine if an affected part number is installed, and replacement of affected oxygen hoses. For certain airplanes, the NPRM proposed to allow repetitive testing of the oxygen system until affected hoses are replaced. The NPRM also proposed to prohibit installation of an affected oxygen hose. The FAA is issuing this AD to address a leak in the oxygen line, which may result in failure to provide oxygen to passengers and crew and result in an oxygen enriched atmosphere creating a fire risk on the airplane. See the MCAI for additional background information.

Comments

The FAA gave the public the opportunity to participate in developing this final rule. The following presents the comments received on the NPRM and the FAA's response to each comment. Air Line Pilots Association, International (ALPA), an individual commenter, and Bombardier indicated their support for the NPRM.

Request To Revise the Conditions for the Aircraft Completion Center Supplemental Type Certificate (STC) Date

Bombardier requested that the FAA revise the conditions for the Aircraft Completion Center STC date. Bombardier stated that the use of the date when the Aircraft Completion Center STC was issued as specified in paragraphs (h)(1)(i), (h)(1)(ii) and (h)(3) of the proposed AD, will, in some cases, be inconsistent with the instructions given in the service bulletin. Bombardier commented that in cases where multiple configurations are approved by the Aircraft Completion Center STC, the date that the STC was issued is not necessarily indicative of the age of the hoses and should not be used. Bombardier stated that, for example, STC ST03088NY, was issued April 20, 2012, but has been used since then to approve many serial-number-specific configurations.

Bombardier suggested that the date used to determine whether operators may perform interim inspections and delay hose replacement be based on one of the following conditions:

• Initial approval of the aircraft completion modification was demonstrated by a serial number specific to the STC and the date the STC was issued; or

• Initial approval of the aircraft completion modification was demonstrated on an STC that approves multiple configurations by the initial approval date of the serial number specific configuration that correlates to the date STC was added to the approved configuration list.

Bombardier commented that the suggestion is consistent with the service information provided in Bombardier Advisory Wire AW700-35-0794, which includes an explanation of how to find the “Aircraft Completion STC date” (expression used in the associated service information), for cases where Bombardier is the STC holder.

The FAA disagrees with the commenter's implication that the ability to delay hose replacement is determined by the date of the STC. The date as given relative to an STC is only for the optional interim testing and if all conditions are met; whether an operator may delay replacement is determined solely based on serial numbers. If an STC is installed with the referenced hoses, the serial numbers can be checked on the hoses. The FAA has not changed this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Bombardier has issued the following service information.

• Bombardier Service Bulletin 700-1A11-35-014, Revision 01, dated February 12, 2021.

• Bombardier Service Bulletin 700-35-015, Revision 01, dated February 12, 2021.

• Bombardier Service Bulletin 700-35-5005, Revision 01, dated February 12, 2021.

• Bombardier Service Bulletin 700-35-6005, Revision 01, dated February 12, 2021.

• Bombardier Service Bulletin 700-35-6501, Revision 01, dated February 12, 2021.

This service information describes procedures for doing an inspection of the oxygen hose assembly installations to determine if a part number within the series O2C20T1 is installed, and replacing the oxygen hose if necessary. For certain airplanes, the service information specifies optional repetitive testing of the oxygen system that would allow for delay of the replacement. These documents are distinct since they apply to different airplane serial numbers.

This service information is reasonably available because the interested parties have access to it through their normal course of business or by the means identified in the ADDRESSES section.

Costs of Compliance

The FAA estimates that this AD will affect 409 airplanes of U.S. registry. The FAA estimates the following costs to comply with this AD:

Estimated Costs for Required Actions
Labor cost | Parts cost | Cost per product | Cost on U.S. operators
Up to 36 work-hours × $85 per hour = Up to $3,060 | $0 | Up to $3,060 | Up to $1,251,540.

Estimated Costs for Optional Actions
Labor cost | Parts cost | Cost per product
Up to 25 work-hours × $85 per hour = Up to $2,125 | Up to $125 | Up to $2,250.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-12-01 Bombardier, Inc.: Amendment 39-22072; Docket No. FAA-2022-0085; Project Identifier MCAI-2021-00498-T.

(a) Effective Date

This airworthiness directive (AD) is effective July 19, 2022.

(b) Affected ADs

None.

(c) Applicability

This AD applies to Bombardier, Inc., Model BD-700-1A10 and BD-700-1A11 airplanes, certificated in any category, serial numbers 9002 through 9879 inclusive and 9998.

(d) Subject

Air Transport Association (ATA) of America Code 35, Oxygen.

(e) Unsafe Condition

This AD was prompted by reports of oxygen leaks caused by cracked, brittle or broken oxygen hoses that were found during scheduled maintenance tests of the airplane oxygen system. The FAA is issuing this AD to address a leak in the oxygen line, which may result in failure to provide oxygen to passengers and crew and result in an oxygen enriched atmosphere creating a fire risk on the airplane.

(f) Compliance

Comply with this AD within the compliance times specified, unless already done.

(g) Inspection and Replacement

Within 6 months after the effective date of this AD: Do an inspection of the oxygen hose assembly to determine if any hose having a part number (P/N) in the O2C20T1 series is installed, in accordance with the Accomplishment Instructions of the applicable service information specified in figure 1 to paragraph (g) of this AD. If P/N O2C20T1 series is installed, or if any test fails as specified in paragraph (h) of this AD, before further flight, replace all the oxygen hoses, in accordance with the Accomplishment Instructions of the applicable service information specified in figure 1 to paragraph (g) of this AD.

BILLING CODE 4910-13-P

(h) Optional Interim Testing for Certain Airplanes

For airplanes identified in figure 2 of paragraph (h) of this AD: The oxygen hose replacement, if required by paragraph (g) of this AD, may be delayed if all conditions specified in paragraphs (h)(1) through (3) of this AD are met.

(1) The oxygen system is tested at the applicable times specified in paragraph (h)(1)(i) or (ii) of this AD, in accordance with the Accomplishment Instructions of the applicable service information specified in figure 2 to paragraph (h) of this AD.

(i) If the Aircraft Completion Center Supplemental Type Certificate (STC) for the passenger cabin interior was issued within 5 years before the effective date of this AD: The oxygen system is tested within 6 months after the effective date of this AD, and thereafter at intervals not to exceed 30 months.

(ii) If the Aircraft Completion Center STC for the passenger cabin interior was issued 5 years or more before the effective date of this AD: The oxygen system is tested within 6 months after the effective date of this AD, and thereafter at intervals not to exceed 15 months.

(2) All P/N O2C20T1 series hoses are replaced before further flight as specified in paragraph (g) of this AD after any hose fails any test.

(3) Except as specified by paragraph (h)(2) of this AD, all P/N O2C20T1 series hoses are replaced within 10 years after issuance of the Aircraft Completion Center STC for the passenger cabin interior as specified in paragraph (g) of this AD provided that all P/N O2C20T1 series hoses in the flight compartment and the third crew (left-hand side enclosure) are replaced within 6 months after the effective date of this AD.

BILLING CODE 4910-13-C

(i) Parts Installation Prohibition

As of the effective date of this AD, no person may install an oxygen hose assembly having a P/N in the O2C20T1 series on any airplane.

(j) Credit for Previous Actions

This paragraph provides credit for actions required by paragraph (g) of this AD, if those actions were performed before the effective date of this AD using the applicable service information specified in paragraphs (j)(1) through (5) of this AD.

(1) Bombardier Service Bulletin 700-1A11-35-014, dated September 28, 2020.

(2) Bombardier Service Bulletin 700-35-015, dated September 28, 2020.

(3) Bombardier Service Bulletin 700-35-5005, dated September 28, 2020.

(4) Bombardier Service Bulletin 700-35-6005, dated September 28, 2020.

(5) Bombardier Service Bulletin 700-35-6501, dated September 28, 2020.

(k) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada Civil Aviation (TCCA); or Bombardier, Inc.'s TCCA Design Approval Organization (DAO). If approved by the DAO, the approval must include the DAO-authorized signature.

(l) Related Information

(1) Refer to Mandatory Continuing Airworthiness Information (MCAI) TCCA AD CF-2021-17, dated April 28, 2021, for related information. This MCAI may be found in the AD docket on the internet at https://www.regulations.gov by searching for and locating Docket No. FAA-2022-0085.

(2) For more information about this AD, contact Elizabeth Dowling, Aerospace Engineer, Mechanical Systems and Administrative Services Section, FAA, New York ACO Branch, 1600 Stewart Avenue, Suite 410, Westbury, NY 11590; telephone 516-228-7300; fax 516-794-5531; email 9-avs-nyaco-cos@faa.gov.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 700-1A11-35-014, Revision 01, dated February 12, 2021.

(ii) Bombardier Service Bulletin 700-35-015, Revision 01, dated February 12, 2021.

(iii) Bombardier Service Bulletin 700-35-5005, Revision 01, dated February 12, 2021.

(iv) Bombardier Service Bulletin 700-35-6005, Revision 01, dated February 12, 2021.

(v) Bombardier Service Bulletin 700-35-6501, Revision 01, dated February 12, 2021.

(3) For service information identified in this AD, contact Bombardier Business Aircraft Customer Response Center, 400 Côte-Vertu Road West, Dorval, Québec H4S 1Y9, Canada; telephone 514-855-2999; email ac.yul@aero.bombardier.com; internet https://www.bombardier.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: https://www.archives.gov/federal-register/cfr/ibr-locations.html.

Issued on May 25, 2022.
Ross Landes,
Deputy Director for Regulatory Operations, Compliance & Airworthiness Division, Aircraft Certification Service.

[FR Doc. 2022-12749 Filed 6-13-22; 8:45 am]

BILLING CODE 4910-13-P